ADMINISTRATIVE CONFERENCE OF THE UNITED STATES

Meeting of the Assembly of the Administrative Conference of the United States

ACTION: Notice of public meeting.

SUMMARY: Pursuant to the Federal Advisory Committee Act (Pub. L. 92-463), notice is hereby given of a meeting of the Assembly of the Administrative Conference of the United States to consider proposed recommendations which deal with: (1) Innovations in e-rulemaking, (2) international regulatory cooperation, (3) the Federal Advisory Committee Act, and (4) incorporation by reference. To facilitate public participation, the Conference is inviting public comment on the recommendations that will be considered at the meeting.

DATES: Meeting dates are Thursday, December 8, 2011, 2 p.m. to 6 p.m.; and Friday, December 9, 2011, 9 a.m. to 12:30 p.m. Comments on the recommendations must be received by noon, Friday, December 2, 2011.

ADDRESSES: The Public Meeting will be held at the Commodity Futures Trading Commission, Three Lafayette Centre, 1155 21st Street NW., Washington, DC 20581 (Main Conference Room).

Submit comments to either of the following: email comments@acus.gov, with “December 2011 Plenary Session Comments” in the subject line; or mail to December 2011 Plenary Session Comments, Administrative Conference of the United States, Suite 706 South, 1120 20th Street NW., Washington, DC 20036.

FOR FURTHER INFORMATION CONTACT: Shawne McGibbon, General Counsel (the Designated Federal Officer), Administrative Conference of the United States, Suite 706 South, 1120 20th Street NW., Washington, DC 20036; Telephone (202) 480-2088.

SUPPLEMENTARY INFORMATION: The Administrative Conference of the United States makes recommendations to administrative agencies, the President, Congress, and the Judicial Conference of the United States regarding the improvement of Federal administrative procedures (5 U.S.C. 594). The objectives of these recommendations are to ensure that private rights may be fully protected and regulatory activities and other Federal responsibilities may be carried out expeditiously in the public interest, to promote more effective public participation and efficiency in the rulemaking process, reduce unnecessary litigation in the regulatory process, improve the use of science in the regulatory process, and improve the effectiveness of laws applicable to the regulatory process (5 U.S.C. 591).

The membership of the Conference meeting in plenary session constitutes the Assembly of the Conference (5 U.S.C. 595). The Assembly will meet in plenary session to consider four proposed recommendations:

(1) The recommendation “Agency Innovations in e-Rulemaking” addresses how Federal agency rulemaking can be improved by better use of Internet-based technologies. The goal of the project was to assess the landscape of existing innovative rulemaking technologies, and identify the most useful innovations and best practices that might be spread to other agencies. The recommendation proposes ways agencies can make rulemaking information, including open dockets, comment polices, and materials from completed rulemakings, more accessible electronically. The recommendation also addresses the issue of improving e-rulemaking participation by those who have historically faced barriers to access, including non-English speakers, users of low-bandwidth Internet connections, and individuals with disabilities.

(2) The recommendation “International Regulatory Cooperation” addresses how U.S. regulators can interact with their foreign counterparts to accomplish their domestic regulatory missions and eliminate unnecessary non-tariff barriers to trade more effectively. This project is intended to update Recommendation 91-1, “Federal Agency Cooperation with Foreign Government Regulators,” which was adopted by the Administrative Conference in 1991. The recommendation includes proposals for enhanced cooperation and information gathering, more efficient deployment of limited resources, and better information exchanges that result in evidence-based decision making.

(3) The recommendation on the “Federal Advisory Committee Act (FACA)” addresses the issue of whether FACA is functioning effectively and efficiently almost 40 years after its enactment. Some of the relevant questions regarding FACA are whether it is hampering Federal agencies' ability to obtain outside advice and whether it provides sufficient transparency in the advisory committee process. The recommendation offers three sets of proposed revisions to the existing FACA regime to make the law more relevant in light of agency experience with FACA and 21st century technologies. Specifically, the recommendation includes proposals designed to clarify the scope of FACA and its implementing regulations, alleviate certain procedural burdens associated with the existing regime, and promote “best practices” aimed at enhancing the transparency and objectivity of the advisory committee process.

(4) The recommendation “Incorporation by Reference” addresses the legal and policy issues related to agencies' adoption of or references to standards or other materials that have been published elsewhere. Incorporation by reference is common partly because Federal policy requires regulatory agencies to use voluntary consensus standards in lieu of government-designed standards when doing so is not impractical or inconsistent with the statutory mission. That policy builds upon Recommendation 78-4, “Federal Agency Interaction with Private Standard-Setting Organizations in Health and Safety Regulation,” adopted by the Conference in 1978. That recommendation encouraged the use of voluntary consensus standards in health and safety regulation. In the ensuing years, many agencies have promulgated thousands of regulations using standards that incorporate by reference standards published elsewhere. This practice raises common issues that individual agencies deal with differently, and the aim of the recommendation is to consolidate the dispersed knowledge of affected agencies, identify best practices, and recommend ways to improve the process.

This meeting will be open to the public and may end prior to the designated end time if business is concluded earlier. Members of the public are invited to attend the meeting in person, subject to space limitations. The Conference will also provide remote public access to the meeting via webcast. Anyone who wishes to attend the meeting in person is asked to RSVP to comments@acus.gov, no later than December 6, 2011, in order to facilitate entry. Members of the public who attend the meetings of the full Assembly are only permitted to speak with the consent of the Chairman and the unanimous approval of the members. The Conference welcomes the attendance of the public and will make every effort to accommodate persons with physical disabilities or special needs. If you need special accommodations due to disability, please inform the contact person noted above no later than 7 days in advance of the meeting.

Members of the public may submit written comments on any or all of the recommendations to either of the addresses listed above no later than noon, December 2, 2011. Copies of the proposed recommendations and information on remote access will be available at http://www.acus.gov. Comments relating to the individual proposed recommendations will be delivered to the Designated Federal Officer listed on this notice and will be posted on the Conference's Web site when received. Comments received at this stage will be available to the full Assembly prior to their consideration of the final recommendations.

Dated: November 14, 2011.
Shawne McGibbon,
General Counsel.

[FR Doc. 2011-29812 Filed 11-17-11; 8:45 am]

BILLING CODE 6110-01-P